Proclamation 7777 of April 30, 2004

National Charter Schools Week, 2004

By the President of the United States of America

A Proclamation

America looks to its schools to give all students the skills they need to realize their dreams and reach their potential. Charter schools help fulfill this mission. During National Charter Schools Week, we celebrate the successes of these institutions.

Charter schools are an important part of our effort to improve the public school system and offer broader educational options to every family. Like other public schools, charter schools are open to all students. Because they are subject to fewer State and district regulations than other public schools, charter schools offer teachers and administrators more freedom in tailoring programs to meet specific student and community needs. In exchange for this freedom, they must meet stricter accountability standards.

Now in their second decade, the demand for charter schools is growing among families from all backgrounds. During this school year, our Nation's charter schools will educate nearly 700,000 students. Many families choose charter schools because of the innovative curriculum and focus on academic achievement, and because these schools can be a promising alternative to a low-performing neighborhood school.

Charter schools are an important part of the No Child Left Behind Act. They provide parents with more choices for their children's education. The greater autonomy of charter schools allows them to employ innovative educational practices. Studies have shown that many charter schools improve academic achievement for their students and that parents of students in charter schools are satisfied with their children's schools.

My fiscal year 2005 budget includes an overall 49 percent increase for elementary and secondary education over 2001 levels, and it proposes $219 million for charter school grants and $100 million for charter school facilities. Together, funding for these two charter school programs has increased 68 percent over 2001 levels. By raising expectations, insisting on results, and refusing to accept failure, we are strengthening our public schools and improving education for all children in America.

NOW, THEREFORE, I, GEORGE W. BUSH, President of the United States of America, by virtue of the authority vested in me by the Constitution and laws of the United States, do hereby proclaim May 2 through May 8, 2004, as National Charter Schools Week. I commend our Nation's charter schools, and I call on parents of charter school students to share their successes to help all Americans understand more about the important work of charter schools.

IN WITNESS WHEREOF, I have hereunto set my hand this thirtieth day of April, in the year of our Lord two thousand four, and of the Independence of the United States of America the two hundred and twenty-eighth.

B

[FR Doc. 04-10367

Filed 5-4-04; 8:45 am]

Billing code 3195-01-P